DEPARTMENT OF COMMERCE

National Oceanic and Atmospheric Administration

50 CFR Part 635

[I.D. 102202A ]

Atlantic Highly Migratory Species Fisheries; Atlantic Bluefin Tuna

AGENCY: National Marine Fisheries Service (NMFS), National Oceanic and Atmospheric Administration (NOAA), Commerce.

ACTION: General category closure.

SUMMARY: NMFS has determined that the 2002 fishing year Atlantic bluefin tuna (BFT) General category quota will be attained by October 25, 2002. Therefore, the General category fishery will be closed effective 11:30 p.m. on October 25, 2002. This action is being taken to prevent overharvest of the total adjusted General category quota of 777.0 metric tons (mt).

DATES: Effective 11:30 p.m. local time on October 25, 2002, through May 31, 2003.

FOR FURTHER INFORMATION CONTACT: Brad McHale or Dianne Stephan, 978-281-9260.

SUPPLEMENTARY INFORMATION: Regulations implemented under the authority of the Atlantic Tunas Convention Act (16 U.S.C. 971 et seq.) and the Magnuson-Stevens Fishery Conservation and Management Act (16 U.S.C. 1801 et seq.) governing the harvest of BFT by persons and vessels subject to U.S. jurisdiction are found at 50 CFR part 635. Section 635.27 subdivides the U.S. BFT quota recommended by the International Commission for the Conservation of Atlantic Tunas among the various domestic fishing categories. The General category landings quota, including time-period subquotas and the New York Bight set-aside, are specified annually as required under § 635.27(a)(1). The 2002 fishing year General category quota and effort control specifications were issued on October 1, 2002 (67 FR 61537).

General Category Closure

NMFS is required, under § 635.28 (a)(1), to file with the Office of the Federal Register for publication notification of closure when a BFT quota is reached, or is projected to be reached. On and after the effective date and time of such closure notification, for the remainder of the fishing year or for a specified period as indicated in the notification, fishing for, retaining, possessing, or landing BFT under that quota category is prohibited until the opening of the subsequent quota period or until such date as specified in the notification.

The adjusted 2002 fishing year BFT quota specifications issued pursuant to § 635.27 set a total adjusted coastwide General category quota of 767 mt, excluding the 10 mt New York Bight set-aside, of large medium and giant BFT to be harvested from the regulatory area during the 2002 fishing year. Based on reported landings and effort, NMFS projects that this quota will be reached by October 25, 2002. Therefore, fishing for, retaining, possessing, or landing large medium or giant BFT intended for sale by persons aboard vessels in the General or HMS Charter/Headboat categories must cease at 11:30 p.m. local time October 25, 2002. The intent of this closure is to prevent overharvest of the quota established for the General category.

If it is determined that quota remains uncaught in the General category, or if additional quota can be made available to the General category through an inseason transfer, NMFS will announce the re-opening and/or transfer action in a separate Federal Register notice. In addition, NMFS will announce the opening date of the General category New York Bight fishery through a separate Federal Register notice if and when it is determined that large medium and giant BFT are available in the New York Bight area. General category permit holders may tag and release BFT while the General category is closed, subject to the requirements of the tag-and-release program at § 635.26.

Vessels permitted in the HMS Charter/Headboat category may continue to fish for and retain BFT under the Angling category regulations. The current Angling category daily retention limit, effective from June 15 through October 31, 2002 is four school, large school or small medium BFT (measuring from 27 to less than 73 inches (from 69 to less than 185 cm) curved fork length). Effective November 1 through May 31, 2003, the daily retention limit in all areas for all vessels fishing under the Angling category quota (67 FR 39869, June 11, 2002) will be adjusted to one large school or small medium BFT (measuring from 47 inches to less than 73 inches (from 119 cm to less than 185 cm) curved fork length). In addition, HMS Charter/Headboat category vessels may continue to retain one large medium or giant “trophy” BFT, measuring 73 inches (185 cm) or greater, per fishing year (June 1 through May 31).

Classification

This action is taken under § 635.28(a) and is exempt from review under Executive Order 12866.

Authority: 16 U.S.C. 971 et seq. and 1801 et seq.

Dated: October 24, 2002.
Bruce C. Morehead,
Acting Director, Office of Sustainable Fisheries, National Marine Fisheries Service.

[FR Doc. 02-27560 Filed 10-25-02; 11:57 am]

BILLING CODE 3510-22-S